DEPARTMENT OF ENERGY

Federal Energy Regulatory Commission

Combined Notice of Filings #1

May 20, 2010.

Take notice that the Commission received the following electric corporate filings:

Docket Numbers: EC10-71-000.

Applicants: Blue Spruce Energy Center, LLC, Calpine Development Holdings, Inc., Public Service Company of Colorado, Riverside Energy Center, LLC, Rocky Mountain Energy Center, LLC.

Description: Public Service Co. of Colorado et al. submits a joint application for authorization for disposition of jurisdictional facilities.

Filed Date: 05/18/2010.

Accession Number: 20100519-0214.

Comment Date: 5 p.m. Eastern Time on Tuesday, June 8, 2010.

Docket Numbers: EC10-72-000.

Applicants: Cloud County Wind Farm, LLC, Pioneer Prairie Wind Farm I, LLC, Arlington Wind Power Project LLC.

Description: Application for Authorization for Disposition of Jurisdictional Facilities and Request for Expedited Action of Arlington Wind Power Project LLC, Cloud County Wind Farm, LLC, and Pioneer Prairie Wind Farm I, LLC.

Filed Date: 05/20/2010.

Accession Number: 20100520-5090.

Comment Date: 5 p.m. Eastern Time on Thursday, June 10, 2010.

Take notice that the Commission received the following electric rate filings:

Docket Numbers: ER98-4336-015.

Applicants: Spokane Energy, LLC.

Description: Spokane Energy, LLC submits its compliance filing as required by Order 697.

Filed Date: 05/18/2010.

Accession Number: 20100519-0209.

Comment Date: 5 p.m. Eastern Time on Tuesday, June 8, 2010.

Docket Numbers: ER06-739-025; ER06-738-025; ER03-983-025; ER02-537-028; ER07-501-024; ER07-758-021; ER08-649-017.

Applicants: East Coast Power Linden Holding, LLC; Cogen Technologies Linden Venture, L.P.; Fox Energy Company LLC; Shady Hills Power Company, L.L.C.; Birchwood Power Partners, L.P.; Inland Empire Energy Center, L.L.C.; EFS Parlin Holdings, LLC.

Description: Supplemental to Notice of Non-Material Change in Status of East Coast Power Linden Holding, LLC, et al.

Filed Date: 05/19/2010.

Accession Number: 20100519-5060.

Comment Date: 5 p.m. Eastern Time on Wednesday, June 9, 2010.

Docket Numbers: ER08-1113-009.

Applicants: California Independent System Operator Corporation

Description: California Independent System Operator Corp submits a compliance filing.

Filed Date: 05/19/2010.

Accession Number: 20100519-0212.

Comment Date: 5 p.m. Eastern Time on Wednesday, June 9, 2010.

Docket Numbers: ER09-748-002; ER09-1050-004.

Applicants: Southwest Power Pool, Inc.

Description: Southwest Power Pool, Inc. submits revisions to its Open Access Transmission Tariff.

Filed Date: 05/19/2010.

Accession Number: 20100520-0202.

Comment Date: 5 p.m. Eastern Time on Wednesday, June 9, 2010.

Docket Numbers: ER09-1397-002.

Applicants: Southwest Power Pool, Inc.

Description: Southwest Power Pool, Inc. submits clean copy of the Revised Agreements and redlined copies of the modified sheets of the Revised Agreements as Exhibit II.

Filed Date: 05/18/2010.

Accession Number: 20100519-0201.

Comment Date: 5 p.m. Eastern Time on Tuesday, June 8, 2010.

Docket Numbers: ER10-119-001.

Applicants: New York Independent System Operator Inc.

Description: The New York Independent System Operator, Inc. submits the proposed revisions to its Market Administration and Control Area Services Tariff.

Filed Date: 05/20/2010.

Accession Number: 20100520-0205.

Comment Date: 5 p.m.Eastern Time on Thursday, June 10, 2010.

Docket Numbers: ER10-1014-001.

Applicants: Southwest Power Pool, Inc.

Description: Southwest Power Pool, Inc submits filing as Exhibit I and II the clean redlined Tariff pages included in the April 5 Filing with new effective date.

Filed Date: 05/19/2010.

Accession Number: 20100519-0210.

Comment Date: 5 p.m. Eastern Time on Wednesday, June 9, 2010.

Docket Numbers: ER10-1109-001.

Applicants: Eagle Creek Hydro Power, LLC.

Description: Eagle Creek Hydro Power, LLC submits Substitute Original Sheet 1 to its FERC Electric Tariff, Original Volume 1 etc.

Filed Date: 05/19/2010.

Accession Number: 20100520-0203.

Comment Date: 5 p.m. Eastern Time on Friday, May 28, 2010.

Docket Numbers: ER10-1256-001.

Applicants: Conectiv Atlantic Generation, LLC.

Description: Conectiv Atlantic Generation, LLC submits an errata to the proposed FERC Electric Tariff, Original Volume 2 re Reactive Supply and Voltage Control from Generation Sources Services.

Filed Date: 05/19/2010.

Accession Number: 20100519-0211.

Comment Date: 5 p.m. Eastern Time on Wednesday, June 9, 2010.

Docket Numbers: ER10-1207-001; ER10-1208-001.

Applicants: Edgewood Energy, LLC; Shoreham Energy, LLC.

Description: Edgewood Energy, LLC et al. submits Original Sheet No. 1 to FERC Electric Tariff, Original Volume No. 1.

Filed Date: 05/20/2010.

Accession Number: 20100520-0206.

Comment Date: 5 p.m. Eastern Time on Thursday, June 10, 2010.

Docket Numbers: ER10-1282-000.

Applicants: Progress Energy, Inc.

Description: Carolina Power & Light Co. et al. submits Third Revised Sheet 210 et al. to FERC Electric Tariff, Fourth Revised Volume 3 for inclusion in their Joint Open Access Transmission Tariff.

Filed Date: 05/20/2010.

Accession Number: 20100520-0207.

Comment Date: 5 p.m. Eastern Time on Thursday, June 10, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-12983 Filed 5-28-10; 8:45 am]

BILLING CODE 6717-01-P